DEPARTMENT OF DEFENSE

48 CFR Parts 202, 215, and 242

Defense Federal Acquisition Regulation Supplement; Technical Amendments

AGENCY: Department of Defense (DoD).

ACTION: Final rule.

SUMMARY: DoD is making technical amendments to the Defense Federal Acquisition Regulation Supplement to update activity names and addresses and reference numbers.

EFFECTIVE DATE: December 6, 2001.

FOR FURTHER INFORMATION CONTACT: Ms. Michele Peterson, Defense Acquisition Regulations Council, OUSD(AT&L)DP(DAR),IMD 3C132, 3062 Defense Pentagon, Washington, DC 20301-3062. Telephone (703) 602-0311; facsimile (703) 602-0350.

List of Subjects in 48 CFR Parts 202, 215, and 242

Government procurement.

Michele P. Peterson,
Executive Editor, Defense Acquisition Regulations Council.

Therefore, 48 CFR Parts 202, 215, and 242 are amended as follows:

1. The authority citation for 48 CFR Parts 202, 215, and 242 continues to read as follows:

Authority: 41 U.S.C. 421 and 48 CFR Chapter 1.

PART 202—DEFINITIONS OF WORDS AND TERMS

202.101 [Amended]

2. Section 202.101 is amended in the definition of “Contracting activity”, under the heading “ARMY”, by removing the entry “Troop Support Agency”.

PART 215—CONTRACTING BY NEGOTIATION

215.404-71-3 [Amended].

3. Section 215.404-71-3 is amended in paragraph (e)(3), in the second sentence, by removing “75” and “25” and adding in their place “80” and “20”, respectively.

4. Section 215.404-76 is amended in paragraph (b) by revising the table to read as follows:

215.404-76 Reporting profit and fee statistics.

* * * * *

(b) * * *

Contracting office | Designated office
ARMY
All | U.S. Army Contracting Support Agency, ATTN: SARD-RS, 5109 Leesburg Pike, Suite 916, Falls Church, VA 22041-3201.
NAVY
All | Commander, Fleet and Industrial Supply Center, Norfolk, Washington Detachment, Code 402, Washington Navy Yard, Washington, DC 20374-5000.
AIR FORCE
Air Force Materiel Command (all field offices) | Air Force Materiel Command, 645 CCSG/SCOS, ATTN: J010 Clerk, 2721 Sacramento Street, Wright-Patterson Air Force Base, OH 45433-5006.

PART 242—CONTRACT ADMINISTRATION AND AUDIT SERVICES

242.202 [Amended]

5. Section 242.202 is amended in paragraph (e)(1)(A) in the first sentence, in the parenthetical, by removing “www” and adding in its place “home”.

242.302 [Amended]

6. Section 242.302 is amended in paragraph (a)(13)(B)(1) in the last parenthetical by removing “www” and adding in its place “home”.

[FR Doc. 01-30263 Filed 12-5-01; 8:45 am]

BILLING CODE 5000-04-U